DEPARTMENT OF COMMERCE

Bureau of Industry and Security

Order Temporarily Denying Export Privileges

Kirill Gordei, 500 NE 12th Ave. #706, Hallandale Beach, FL 33009;

Apelsin Logistics Inc., 500 NE 12th Ave. #706, Hallandale Beach, FL 33009;

FC Marakanda 7777 LLC, Obod MFI, Temur A Street 65, Yangiulskiy Region, Tashkent, Uzbekistan;

Alinda Chemical Trade Company LTD a/k/a/Alinda, Kuskovskaya Street 20A, Entrance B, Office 409, Moscow, Russia 111141;

Element Uluslararasi Nakliyat Ve Lojistick Tic. LTD, Sehit Polis Fethi Sekin Caddesi no:4, Novus Tower Kat:28 D:281-282, Bayrakli, Izmir 35530, Türkiye;

Astec Astronomy FZCO, Dubai Silicon Oasis, DDP, Building A1, IFZA Property FZCO, Dubai, UAE;

And

Dubai Silicon Oasis, DDP, Building A2, IFZY Business Park DDP, Dubai, UAE;

AvioChem a/k/a/Avio Chem Doo a/k/a/Avio Star a/k/a AvioNet, Aerodrom Beograd 59, 111271 Surcin, Serbia

Pursuant to section 766.24 of the Export Administration Regulations, 15 CFR parts 730 through 774 (“EAR” or “the Regulations”),¹ the Bureau of Industry and Security (“BIS”), U.S. Department of Commerce, through its Office of Export Enforcement (“OEE”), has requested the issuance of an Order temporarily denying, for a period of 180 days, the export privileges under the Regulations of: Kirill Gordei (“Gordei”), Apelsin Logistics Inc. (“Apelsin”), FC Marakanda 7777 LLC (“Marakanda”), Alinda Chemical Trade Company LTD (“Alinda”), Element Uluslararasi Nakliyat Ve Lojistick Tic. LTD (“Element”), Astec Astronomy FZCO (“Astec”), and AvioChem (collectively, the “Respondents”). OEE's request and related information indicate that these parties are located at the respective addresses listed on the caption page of this order. The OEE investigation has shown that Gordei, through his Florida-based freight forwarding company Apelsin, has facilitated the transshipment of U.S.-origin goods to Russia by communicating with parties in Russia and Türkiye to instruct them on how to circumvent U.S. export controls, falsifying shipping documentation, and utilizing freight forwarders located abroad in order to transship items to Russia.

¹ The Regulations, currently codified at 15 CFR parts 730 through 774 (2025), were originally issued pursuant to the Export Administration Act (50 U.S.C. 4601-4623 (Supp. III 2015) (“EAA”), which lapsed on August 21, 2001. The President, through Executive Order 13222 of August 17, 2001 (3 CFR, 2001 Comp. 783 (2002)), as extended by successive Presidential Notices, continued the Regulations in effect under the International Emergency Economic Powers Act (50 U.S.C. 1701, et seq. (2012)) (“IEEPA”). On August 13, 2018, the President signed into law the John S. McCain National Defense Authorization Act for Fiscal Year 2019, which includes the Export Control Reform Act of 2018, 50 U.S.C. 4801-4852 (“ECRA”). While section 1766 of ECRA repeals the provisions of the EAA (except for three sections which are inapplicable here), section 1768 of ECRA provides, in pertinent part, that all orders, rules, regulations, and other forms of administrative action that were made or issued under the EAA, including as continued in effect pursuant to IEEPA, and were in effect as of ECRA's date of enactment (August 13, 2018), shall continue in effect according to their terms until modified, superseded, set aside, or revoked through action undertaken pursuant to the authority provided under ECRA. Moreover, section 1761(a)(5) of ECRA authorizes the issuance of temporary denial orders.

I. Legal Standard

Pursuant to section 766.24, BIS may issue an order temporarily denying a respondent's export privileges upon a showing that the order is necessary in the public interest to prevent an “imminent violation” of the Regulations. 15 CFR 766.24(b)(1) and 766.24(d). “A violation may be `imminent' either in time or degree of likelihood.” 15 CFR 766.24(b)(3). BIS may show “either that a violation is about to occur, or that the general circumstances of the matter under investigation or case under criminal or administrative charges demonstrate a likelihood of future violations.” Id. As to the likelihood of future violations, BIS may show that the violation under investigation or charge “is significant, deliberate, covert and/or likely to occur again, rather than technical or negligent[.]” Id. A “[l]ack of information establishing the precise time a violation may occur does not preclude a finding that a violation is imminent, so long as there is sufficient reason to believe the likelihood of a violation.” Id.

II. OEE's Request for a Temporary Denial Order (“TDO”)

The U.S. Commerce Department, through BIS, responded to the Russian Federation's (“Russia's”) further invasion of Ukraine by implementing a sweeping series of stringent export controls that severely restrict Russia's access to technologies and other items that it needs to sustain its aggressive military capabilities. These controls primarily target Russia's defense, aerospace, and maritime sectors and are intended to cut off Russia's access to vital technological inputs, atrophy key sectors of its industrial base, and undercut Russia's strategic ambitions to exert influence on the world stage.

As of February 24, 2022, any item classified under any Export Classification Control Number (“ECCN”) in Categories 3 through 9 of the Commerce Control List (“CCL”) required a license to be exported or reexported to Russia. See 87 FR 12226 (Mar. 3, 2022). As of April 8, 2022, the license requirements for Russia were expanded to cover all items on the CCL. See 87 FR 22130 (Apr. 14, 2022). These rules were codified in title 15 CFR 746.8, which state, “a license is required, excluding deemed exports and deemed reexports, to export, reexport, or transfer (in-country) to or within Russia or Belarus any item subject to the EAR and specified in any Export Control Classification Number (ECCN) on the CCL.”

BIS has imposed additional license requirements for exports, reexports and transfers to or within Russia of any items subject to the EAR that were identified under certain Schedule B or Harmonized Tariff Schedule 6 (“HTS”) numbers under Supplement No. 4 to Part 746—Russian and Belarusian Industry Sector Sanctions Pursuant to § 746.5(a)(1)(ii).² HTS codes take their first six digits from the corresponding Harmonized System (“HS”) code, a standardized numerical method of classifying traded products used by customs authorities around the world.

² See, e.g., 87 FR 12856 (March 8, 2022).

In its request, OEE presented evidence indicating that the Respondents seek to procure various U.S.-origin commodities, including items classified as ECCNs 3A999.b and 9A991, and transship them to Russia without seeking the required authorization from BIS, contrary to the requirements in the Regulations.

A. Mass Spectrometer Export

Following the Russian invasion of Ukraine, and the resultant implementation of BIS export controls affecting the Russian aviation industry, several of the Respondents engaged in a scheme to export a Mass Spectrometer, classified under ECCN 3A999.b and under 6-digit HTS code 902781, from the United States to Russia without the required license from BIS.³

³ See 15 CFR 746.8(a)(1), (a)(5).

OEE has presented evidence that on or about August 4, 2023, Gordei, who at all relevant times was the President of Apelsin, was provided falsified shipping documents from an individual associated with Alinda (hereinafter “Individual 1”) for the purposes of shipping the Mass Spectrometer to Russia. The Mass Spectrometer was purchased from a U.S. company located in California (hereinafter “U.S. Company 1”) by Marakanda. Individual 1 informed Gordei that this type of item requires a BIS export license to Russia otherwise it would be detained by U.S. Customs and Border Protection (“CBP”). Moreover, Individual 1 instructed Gordei that U.S. Company 1 should not be reflected in the documents and instead provided Gordei with at least two sets of falsified shipping documentation, including false commercial invoices reflecting two different, unrelated, U.S. companies as the sellers. These documents also reflected that the Mass Spectrometer would be shipped to Element, in Türkiye.

On or about August 21, 2023, through on or about August 25, 2023, Gordei arranged the transshipment of the Mass Spectrometer from Element in Türkiye to a company operating in Moscow, Russia. After informing Element that the “real” ultimate consignee for the shipment was located in Moscow, Russia, Gordei provided Element with the falsified shipping documentation, and confirmed to Individual 1 that Element agreed to transship the item to the consignee located in Moscow. This consignee was listed at the same address as Alinda and likely served as front or fictitious name for Alinda.

Gordei and Apelsin then directed a U.S.-based freight forwarder to file Electronic Export Information using the falsified documents. These documents falsely stated that Marakanda in Uzbekistan was the ultimate consignee, with the shipment to be routed initially to Element in Türkiye. On or about August 28, 2023, Element sent an email to Gordei advising him that the estimated departure date of the Mass Spectrometer from Türkiye to Russia was going to be August 29, 2023, and attached an air waybill issued by a Russian airline. Customs data obtained by OEE indicates that the items were imported into Russia on or about September 13, 2023.

B. Further Transshipment to Russia

OEE provided evidence that Gordei, Apelsin, and Element were also involved in further attempts to transship items to Russia, frequently using falsified shipping documents. On or about September 14, 2023, OEE special agents detained an ocean shipment destined to the U.A.E. that contained three (3) consolidated shipments consisting of diesel engine parts and agriculture tractor parts. Gordei and Apelsin arranged for the shipment of these items through a U.S. freight forwarder. OEE determined that this shipment was ultimately destined to a company located in Moscow, Russia, and that the shipment required a license from BIS for export to Russia because the items were EAR99 but classified by an HTS code that appears on Supplement no. 4 to Part 746 of the EAR.⁴

⁴ See 15 CFR 746.8(a)(5).

Additionally, on or about March 14, 2024, OEE special agents detained a shipment of five items identified as an antenna, coupling, valve, motor, and gauge at the Port of Atlanta. Gordei and Apelsin arranged for the shipment to be exported using a U.S. freight forwarder based in Miami, Florida. The shipping documentation listed Element, in Türkiye, as the ultimate consignee, and an unrelated U.S. company as the seller (“U.S. Company 2”). U.S. Company 2 confirmed to OEE agents that the shipping documentation, including a commercial invoice, had been falsified and the items were not sold by U.S. Company 2. The shipment was ultimately seized by CBP under suspicion of violations of export control laws.

C. Shipment Involving Apelsin, Astec, and AvioChem

On or about May 29, 2024, CBP detained an additional shipment containing a fire detection harness classified under ECCN 9A991, which required a license for export to Russia. In the shipment's EEI, Apelsin was listed as the freight forwarder, while Astec in Dubai, U.A.E. was listed as the ultimate consignee. Investigation by OEE revealed Astec has previously sourced other aircraft parts from companies located in the United States, and that quotes for these items came from an individual associated with Astec and AvioChem, in Belgrade, Serbia. A separate individual associated with Astec confirmed to OEE that AvioChem and Astec are related companies, and OEE's investigation indicated that AvioChem and Astec share ownership and management. AvioChem is currently sanctioned by the United Kingdom for, inter alia, its involvement in the Russian Transport Sector.⁵ According to customs data obtained by OEE, Astec is a supplier to S7 Engineering LLC, which is an arm of Siberian Airlines, d/b/a S7 Airlines. Siberian Airlines is subject to a BIS TDO through December 13, 2025.⁶ S7 Engineering LLC is also listed on the Specially Designated Nationals and Blocked Persons list (SDN list) pursuant to Executive Order 14024.⁷

⁵ See UK Sanctions List Search, available at https://search-uk-sanctionslist.service.gov.uk/designations/RUS2035/Entity.

⁶ 89 FR 100952 (Dec. 13, 2024).

⁷ See Press Release, U.S. Department of State, Responding to Two Years of Russia's Full-Scale War on Ukraine and Navalny's Death (February 23, 2024), https://www.state.gov/imposing-measures-in-response-to-navalnys-death-and-two-years-of-russias-full-scale-war-against-ukraine/.

D. Risk of Imminent Violation

Since the implementation of enhanced licensing requirements imposed on exports to Russia on February 24, 2022, OEE has investigated eight (8) exports or attempted exports worth approximately $1.2 million involving the Respondents that were either suspected to be destined to Russia or imported into Russia. Because Gordei and Apelsin usually hire a separate, unrelated, freight forwarder in the U.S. to handle the exportation of goods, Apelsin does not appear on the EEI filing as a party to the transaction, which obfuscates Gordei's and Apelsin's export history. Gordei and Apelsin also provide falsified documents to these U.S. freight forwarders, while knowingly arranging the transshipment of the items to Russia once exported. It is therefore OEE's belief that Apelsin and Gordei are likely involved in violations of the EAR additional to those detailed herein. This belief is supported by customs data from both the U.S. and Russia demonstrating the Respondents as exporters and consignees of numerous shipments destined to Russia.

On April 23, 2024, Gordei, the President of Apelsin, was indicted in the District of Massachusetts and charged with one count of conspiracy (18 U.S.C. 371), one count of violation of the Export Control Reform Act (ECRA) (50 U.S.C. 4819(a)(1)), and one count of smuggling (18 U.S.C. 554(a)). Gordei has been released pre-trial. Given the conduct detailed in OEE's request, including Gordei's and Apelsin's deliberate obfuscation of involvement in the transshipment of items to Russia, it is OEE's belief that despite Gordei's arrest, he and Apelsin, and the remaining respondents who are located abroad, continue to present an imminent risk of violation of the EAR.

III. Findings

Under the applicable standard set forth in section 766.24 of the Regulations and my review of the entire record, I find that the evidence presented by BIS convincingly demonstrates that the Respondents have acted in violation of the Regulations; that such violations have been significant and deliberate; and that given the foregoing and the nature of the matters under investigation, there is a likelihood of imminent violations. Therefore, the TDO is necessary in the public interest to prevent imminent violation of the Regulations and to give notice to companies and individuals in the United States and abroad that they should avoid dealing with the Respondents, in connection with export and reexport transactions involving items subject to the Regulations and in connection with any other activity subject to the Regulations.

IV. Order

It is therefore ordered:

First, that Kirill Gordei, with an address at 500 NE 12th Ave. #706, Hallandale Beach, FL 33009; Apelsin Logistics Inc., with an address at 500 NE 12th Ave. #706, Hallandale Beach, FL 33009; FC Marakanda 7777 LLC, with an address at Obod MFI, Temur A Street 65, Yangiulskiy Region, Tashkent, Uzbekistan; Alinda Chemical Trade Company LTD, a/k/a/Alinda, with an address at Kuskovskaya Street 20A Entrance B, Office 409, Moscow, Russia 111141; Element Uluslararasi Nakliyat Ve Lojistick Tic. LTD, with an address at Sehit Polis Fethi Sekin Caddesi no:4, Novus Tower Kat:28 D:281-282, Bayrakli, Izmir 35530 Türkiye; Astec Astronomy FZCO, with an address at Dubai Silicon Oasis, DDP, Building A1 IFZA Property FZCO, Dubai, UAE, and an address at Dubai Silicon Oasis, DDP, Building A2 IFZY Business Park DDP, Dubai, UAE; and AvioChem, a/k/a/Avio Chem Doo, a/k/a/Avio Star, a/k/a AvioNet, with an address at Aerodrom Beograd 59, 111271 Surcin, Serbia; and when acting for or on their behalf, any successors or assigns, agents, or employees (each a “Denied Person” and collectively the “Denied Persons”) may not, directly or indirectly, participate in any way in any transaction involving any commodity, software or technology (hereinafter collectively referred to as “item”) exported or to be exported from the United States that is subject to the EAR, or in any other activity subject to the EAR including, but not limited to:

A. Applying for, obtaining, or using any license (except directly related to safety of flight), license exception, or export control document;

B. Carrying on negotiations concerning, or ordering, buying, receiving, using, selling, delivering, storing, disposing of, forwarding, transporting, financing, or otherwise servicing in any way, any transaction involving any item exported or to be exported from the United States that is subject to the EAR except directly related to safety of flight and authorized by BIS pursuant to section 764.3(a)(2) of the Regulations, or engaging in any other activity subject to the EAR except directly related to safety of flight and authorized by BIS pursuant to section 764.3(a)(2) of the Regulations; or

C. Benefitting in any way from any transaction involving any item exported or to be exported from the United States that is subject to the EAR, or from any other activity subject to the EAR except directly related to safety of flight and authorized by BIS pursuant to section 764.3(a)(2) of the Regulations.

Second, that no person may, directly or indirectly, do any of the following:

A. Export, reexport, or transfer (in-country) to or on behalf of the Respondents any item subject to the EAR except directly related to safety of flight and authorized by BIS pursuant to section 764.3(a)(2) of the Regulations;

B. Take any action that facilitates the acquisition or attempted acquisition by the Respondents of the ownership, possession, or control of any item subject to the EAR that has been or will be exported from the United States, including financing or other support activities related to a transaction whereby the Respondents acquires or attempts to acquire such ownership, possession or control except directly related to safety of flight and authorized by BIS pursuant to section 764.3(a)(2) of the Regulations;

C. Take any action to acquire from or to facilitate the acquisition or attempted acquisition from the Respondents of any item subject to the EAR that has been exported from the United States except directly related to safety of flight and authorized by BIS pursuant to section 764.3(a)(2) of the Regulations;

D. Obtain from the Respondents in the United States any item subject to the EAR with knowledge or reason to know that the item will be, or is intended to be, exported from the United States except directly related to safety of flight and authorized by BIS pursuant to section 764.3(a)(2) of the Regulations; or

E. Engage in any transaction to service any item subject to the EAR that has been or will be exported from the United States and which is owned, possessed or controlled by the Respondents, or service any item, of whatever origin, that is owned, possessed or controlled by the Respondents if such service involves the use of any item subject to the EAR that has been or will be exported from the United States except directly related to safety of flight and authorized by BIS pursuant to section 764.3(a)(2) of the Regulations. For purposes of this paragraph, servicing means installation, maintenance, repair, modification, or testing.

Third, that, after notice and opportunity for comment as provided in section 766.23 of the EAR, any other person, firm, corporation, or business organization related to Respondents by ownership, control, position of responsibility, affiliation, or other connection in the conduct of trade or business may also be made subject to the provisions of this Order.

In accordance with the provisions of section 766.24(e) of the EAR, the Respondents may, at any time, appeal this Order by filing a full written statement in support of the appeal with the Office of the Administrative Law Judge, U.S. Coast Guard ALJ Docketing Center, 40 South Gay Street, Baltimore, Maryland 21202-4022.

In accordance with the provisions of section 766.24(d) of the EAR, BIS may seek renewal of this Order by filing a written request not later than 20 days before the expiration date. A renewal request may be opposed by the Respondents as provided in section 766.24(d), by filing a written submission with the Assistant Secretary of Commerce for Export Enforcement, which must be received not later than seven days before the expiration date of the Order.

A copy of this Order shall be provided to the Respondents and shall be published in the Federal Register.

This Order is effective immediately and shall remain in effect for 180 days.

Dated: February 6, 2025.
Kevin J. Kurland,
Acting Assistant Secretary of Commerce for Export Enforcement.

[FR Doc. 2025-02455 Filed 2-10-25; 8:45 am]

BILLING CODE 3510-DT-P